DEPARTMENT OF LABOR

Office of the Secretary

Submission for OMB Review: Comment Request

December 19, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Training Administration.

Type of Review: Extension without change of a currently approved collection.

Title of Collection: O*Net Data Collection Program.

OMB Control Number: 1205-0421.

Affected Public: Individuals or Households; State, Local, or Tribal Governments; Federal Government; and Private Sector—Businesses or other for profits, Farms, and Not-for-Profit institutions.

Total Estimated Number of Respondents: 28,594.

Total Estimated Annual Burden Hours: 14,620.

Total Estimated Annual Costs Burden: $0.

Description: The O*Net Data Collection Program yields detailed characteristics of occupations and skills for over 800 occupations by obtaining information from job incumbents/occupational specialists on worker and job characteristics to populate the O*Net (Occupational Information Network) database. The O*Net database information is used for a wide range of purposes related to career counseling and development, curriculum design, human resources functions and workforce investment efforts. The data collection methodology includes contacting businesses/associations to gain their cooperation, and collecting information from employees of cooperating businesses/associations as well as occupational specialists. For additional information, see related notice published at Volume 73 FR 28509 on May 16, 2008.

Darrin A. King,
Departmental Clearance Officer.

[FR Doc. E8-31082 Filed 12-30-08; 8:45 am]

BILLING CODE 4510-30-P